DEPARTMENT OF COMMERCE

International Trade Administration

[C-580-913]

Oil Country Tubular Goods From the Republic of Korea: Final Results of Countervailing Duty Administrative Review; 2022

AGENCY: Enforcement and Compliance, International Trade Administration, Department of Commerce.

SUMMARY: The U.S. Department of Commerce (Commerce) determines that countervailable subsidies were not provided to SeAH Steel Corporation and its cross-owned affiliate, SeAH Steel Holdings Corporation (collectively, the SeAH Steel Companies), a producer and exporter of oil country tubular goods (OCTG) from the Republic of Korea (Korea). The period of review (POR) is September 29, 2022, through December 31, 2022.

DATES: Applicable February 21, 2025.

FOR FURTHER INFORMATION CONTACT: Rebecca Janz, AD/CVD Operations, Office II, Enforcement and Compliance, International Trade Administration, U.S. Department of Commerce, 1401 Constitution Avenue NW, Washington, DC 20230; telephone: (202) 482-2972.

SUPPLEMENTARY INFORMATION:

Background

On December 13, 2024, Commerce published in the Federal Register the preliminary results of the 2022 administrative review ¹ of the countervailing duty order on OCTG from Korea.² We invited interested parties to comment on the Preliminary Results.³ No interested party submitted comments. Accordingly, we have not modified our analysis from the Preliminary Results, and no decision memoranda accompany this notice. We are, hereby, adopting the Preliminary Results as the final results of this review. Commerce conducted this review in accordance with section 751(a)(1)(A) of the Tariff Act of 1930, as amended (the Act).

¹ See Oil Country Tubular Goods from the Republic of Korea: Preliminary Results and Rescission, In Part, of Countervailing Duty Administrative Review; 2022, 89 FR 100969 (December 13, 2024) (Preliminary Results), and accompanying Preliminary Decision Memorandum (PDM).

² See Oil Country Tubular Goods from the Republic of Korea and the Russian Federation: Countervailing Duty Orders, 87 FR 70782 (November 21, 2022) (Order).

³ See Preliminary Results, 89 FR 100970.

Scope of the Order

The merchandise covered by the Order is OCTG from Korea. For a complete description of the scope of the Order, see the Preliminary Results.⁴

⁴ See Preliminary Results PDM at 5.

Final Results of Review

Commerce determines the following net countervailable subsidy rate exists for the POR, September 29, 2022, through December 31, 2022:

Producer/exporter | Subsidy rate (percent ad valorem)
SeAH Steel Corporation; SeAH Steel Holding Corporation ⁵ | * 0.14
* De minimis.

Disclosure

⁵ As discussed in the Preliminary Results, Commerce has found SeAH Steel Holding Corporation to be cross-owned with SeAH Steel Corporation. See Preliminary Results, 89 FR at 100970.

Normally, Commerce discloses to interested parties the calculations performed in connection with the final results within five days of any public announcement or, if there is no public announcement, within five days of the date of publication of the notice of the final results in the Federal Register, in accordance with 19 CFR 351.224(b). However, because we made no changes from the Preliminary Results, there are no new calculations to disclose.

Assessment Rates

Commerce shall determine, and U.S. Customs and Border Protection (CBP) shall assess, countervailing duties on all appropriate entries covered by this review, pursuant to section 751(a)(2)(C) of the Act and 19 CFR 351.212(b)(2). Because we calculated a de minimis countervailable subsidy rate for the SeAH Steel Companies in the final results of this review, we intend to instruct CBP to liquidate the appropriate entries without regard to countervailing duties in accordance with 19 CFR 351.212(b)(2) and 351.106(c)(2).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Pursuant to section 751(a)(1) of the Act, Commerce also intends to instruct CBP to collect cash deposits of estimated countervailing duties at the appropriate rates.⁶ For shipments of subject merchandise by the SeAH Steel Companies entered, or withdrawn from warehouse, for consumption on or after the date of publication of these final results, the cash deposit rate will be zero. These cash deposit requirements, when imposed, shall remain in effect until further notice.

⁶ See section 751(a)(2)(C) of the Act (“The {results of the} determination . . . shall be the basis for the assessment of countervailing or antidumping duties on entries of merchandise covered by the determination and for deposits of estimated duties.”).

Administrative Protective Order (APO)

This notice serves as the only reminder to parties subject to APO of their responsibility concerning the disposition of proprietary information disclosed under APO in accordance with 19 CFR 351.305(a)(3), which continues to govern business proprietary information in this segment of the proceeding. Timely written notification of return or destruction of APO materials or conversion to judicial protective order is hereby requested. Failure to comply with the regulations and terms of an APO is a sanctionable violation.

Notification to Interested Parties

We are issuing and publishing this notice in accordance with sections 751(a)(1) and 777(i) of the Act, and 19 CFR 351.221(b)(5).

Dated: February 13, 2025.
Christopher Abbott,
Deputy Assistant Secretary for Policy and Negotiations, performing the non-exclusive functions and duties of the Assistant Secretary for Enforcement and Compliance.

[FR Doc. 2025-02906 Filed 2-20-25; 8:45 am]

BILLING CODE 3510-DS-P